DEPARTMENT OF ENERGY

Federal Energy Regulatory Commission

Combined Notice of Filings #1

Take notice that the Commission received the following exempt wholesale generator filings:

Docket Numbers: EG24-42-000.

Applicants: Cutlass Solar II, LLC.

Description: Cutlass Solar II, LLC submits Notice of Self-Certification of Exempt Wholesale Generator Status.

Filed Date: 11/28/23.

Accession Number: 20231128-5143.

Comment Date: 5 p.m. ET 12/19/23.

Docket Numbers: EG24-43-000.

Applicants: Grimes County Solar Project LLC.

Description: Grimes County Solar Project LLC submits Notice of Self-Certification of Exempt Wholesale Generator Status.

Filed Date: 11/28/23.

Accession Number: 20231128-5146.

Comment Date: 5 p.m. ET 12/19/23.

Docket Numbers: EG24-44-000.

Applicants: Ben Milam Solar 2 LLC.

Description: Ben Milam Solar 2 LLC submits Notice of Self-Certification of Exempt Wholesale Generator Status.

Filed Date: 11/29/23.

Accession Number: 20231129-5052.

Comment Date: 5 p.m. ET 12/20/23.

Docket Numbers: EG24-45-000.

Applicants: Quartz Solar, LLC.

Description: Quartz Solar, LLC submits Notice of Self-Certification of Exempt Wholesale Generator Status.

Filed Date: 11/29/23.

Accession Number: 20231129-5147.

Comment Date: 5 p.m. ET 12/20/23

Take notice that the Commission received the following electric rate filings:

Docket Numbers: ER10-2721-009; ER10-2721-011; ER10-2721-015.

Applicants: El Paso Electric Company.

Description: Amendment to July 31, 2023, Notice of Non-Material Change in Status of El Paso Electric Company.

Filed Date: 11/20/23.

Accession Number: 20231120-5235.

Comment Date: 5 p.m. ET 12/11/23.

Docket Numbers: ER10-2861-007; ER13-1504-008.

Applicants: SWG Arapahoe, LLC, Fountain Valley Power, L.L.C.

Description: Supplement to December 20, 2019, Updated Market Power Analysis for the Northwest Region of Fountain Valley Power, L.L.C., et al.

Filed Date: 11/20/23.

Accession Number: 20231120-5239.

Comment Date: 5 p.m. ET 12/11/23.

Docket Numbers: ER15-1471-011; ER15-632-011; ER16-915-004; ER15-634-011; ER10-2721-010; ER15-1672-010; ER10-2861-009; ER19-2287-002; ER16-2010-005; ER14-2939-009; ER10-1874-012; ER19-9-006; ER15-2728-011; ER19-2294-002; ER14-2140-011; ER12-1308-012; ER15-1952-009; ER16-711-008; ER14-2466-012; ER14-2465-012; ER14-2141-011; ER16-2561-005; ER13-1504-010; ER19-2305-002.

Applicants: Valencia Power, LLC, SWG Arapahoe, LLC, Sunflower Wind Project, LLC, Selmer Farm, LLC, RE Columbia Two LLC, RE Camelot LLC, Pio Pico Energy Center, LLC, Pavant Solar LLC, Palouse Wind, LLC, Mulberry Farm, LLC, Mesquite Power, LLC, Maricopa West Solar PV, LLC, Mankato Energy Center II, LLC, Mankato Energy Center, LLC, Imperial Valley Solar Company (IVSC) 2, LLC, Hancock Wind, LLC, Goal Line L.P., Fountain Valley Power, L.L.C., Evergreen Wind Power II, LLC, El Paso Electric Company, Cottonwood Solar, LLC, Comanche Solar PV, LLC, CID Solar, LLC, Blue Sky West, LLC

Description: Supplement to January 19, 2021, Notice of Non-Material Change in Status of Blue Sky West, LLC, et al.

Filed Date: 11/20/23.

Accession Number: 20231120-5236.

Comment Date: 5 p.m. ET 12/11/23.

Docket Numbers: ER23-2510-001.

Applicants: California Independent System Operator Corporation.

Description: Compliance filing: 2023-11-29 Short-Term Wheeling Through Compliance Filing to be effective 6/1/2024.

Filed Date: 11/29/23.

Accession Number: 20231129-5080.

Comment Date: 5 p.m. ET 12/20/23.

Docket Numbers: ER24-55-000.

Applicants: Silver Peak Energy, LLC.

Description: Silver Peak Energy, LLC submits Request for Shortened Comment Period of Ten Days re Supplement to Application.

Filed Date: 11/14/23.

Accession Number: 20231114-5141.

Comment Date: 5 p.m. ET 12/5/23.

Docket Numbers: ER24-171-000.

Applicants: Skysol, LLC.

Description: Supplement to October 20, 2023, Skysol, LLC tariff filing.

Filed Date: 11/29/23.

Accession Number: 20231129-5150.

Comment Date: 5 p.m. ET 12/13/23.

Docket Numbers: ER24-492-000.

Applicants: ISO New England Inc., New England Power Pool Participants Committee.

Description: Compliance filing: ISO New England Inc. submits tariff filing per 35: ISO/NEPOOL; EL23-89—Comp Filing (Rev. to IEP Making Pumped Storage Eligible) to be effective 8/2/2023.

Filed Date: 11/29/23.

Accession Number: 20231129-5062.

Comment Date: 5 p.m. ET 12/20/23.

Docket Numbers: ER24-493-000.

Applicants: AEP Texas Inc.

Description: 205(d) Rate Filing: AEPTX-Sun Cactus Solar Project Generation Interconnection Agreement to be effective 11/6/2023.

Filed Date: 11/29/23.

Accession Number: 20231129-5067.

Comment Date: 5 p.m. ET 12/20/23.

Docket Numbers: ER24-494-000.

Applicants: California Independent System Operator Corporation.

Description: Petition for Approval of Disposition of Penalty Assessment Proceeds of the California Independent System Operator Corporation.

Filed Date: 11/29/23.

Accession Number: 20231129-5152.

Comment Date: 5 p.m. ET 12/20/23.

Docket Numbers: ER24-495-000

Applicants: Duke Energy Florida, LLC

Description: 205(d) Rate Filing: DEF-Harmony Florida Solar II—ASAO SA No. 401 to be effective 10/30/2023.

Filed Date: 11/29/23.

Accession Number: 20231129-5173.

Comment Date: 5 p.m. ET 12/20/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 29, 2023.
Kimberly D. Bose,
Secretary.

[FR Doc. 2023-26648 Filed 12-4-23; 8:45 am]

BILLING CODE 6717-01-P